DEPARTMENT OF HEALTH AND HUMAN SERVICES

Centers for Disease Control and Prevention

Board of Scientific Counselors, National Center for Infectious Diseases: Meeting

In accordance with section 10(a)(2) of the Federal Advisory Committee Act (Pub. L. 92-463), the Centers for Disease Control and Prevention (CDC) announces the following committee meeting.

Name: Board of Scientific Counselors, National Center for Infectious Diseases (NCID).

Times and Dates: 9 a.m.-5:45 p.m., May 10, 2001; 8:30 a.m.-2:30 p.m., May 11, 2001.

Place: CDC, Auditorium B, Building 1, Clifton Road, Atlanta, Georgia 30333.

Status: Open to the public, limited only by the space available.

Purpose: The Board of Scientific Counselors, NCID, provides advice and guidance to the Director, CDC, and Director, NCID, in the following areas: program goals and objectives; strategies; program organization and resources for infectious disease prevention and control; and program priorities.

Matters To Be Discussed: Agenda items will include:

1. Opening Session: NCID Update.

2. Program Update: BSE/vCJD.

3. Program Update: Dengue.

4. Update on NIAID Research Priorities.

5. Issue Updates;

a. Antimicrobial Resistance

b. Patient Safety

c. Waterborne Infections

6. Breakout groups on Issue Updates (Item 5, a-c above).

7. Board Discussions.

8. Program Update: Life/GAP.

9. Breakout Group Report/Discussion: Antimicrobial Resistance.

10. Breakout Group Report/Discussion: Patient Safety.

11. Breakout Group Report/Discussion: Waterborne Infections.

12. Program Update: NEDSS.

13. Discussions.

14. Board meets with Director, CDC.

15. Discussions and Recommendations.

Other agenda items include announcements/introductions; follow-up on actions recommended by the Board December 2000; consideration of future directions, goals, and recommendations.

Agenda items are subject to change as priorities dictate.

Written comments are welcome and should be received by the contact person listed below prior to the opening of the meeting.

Contact Person for More Information: Diane S. Holley, Office of the Director, NCID, CDC, Mailstop C-20, 1600 Clifton Road, NE, Atlanta, Georgia 30333, email dsy1@cdc.gov; telephone 404/639-0078.

The Director, Management Analysis and Services Office, has been delegated the authority to sign Federal Register notices pertaining to announcements of meetings and other committee management activities, for both the Centers for Disease Control and Prevention and the Agency for Toxic Substances and Disease Registry.

Dated: April 9, 2001.
Carolyn J. Russell,
Management Analysis and Services Office, Centers for Disease Control and Prevention.

[FR Doc. 01-9152 Filed 4-12-01; 8:45 am]

BILLING CODE 4163-18-P